DEPARTMENT OF LABOR

Employment and Training Administration

[TA-W-52,036]

WiCat Systems, Inc., Linden, UT; Notice of Termination of Investigation

Pursuant to section 221 of the Trade Act of 1974, as amended, an investigation was initiated on June 13, 2003, in response to a worker petition filed by a state agency representative on behalf of workers at WiCat Systems, Inc., Linden, Utah.

The petitioner has requested that the petition be withdrawn. Consequently, the investigation has been terminated.

Signed at Washington, DC, this 28th day of July, 2003.
Richard Church,
Certifying Officer, Division of Trade Adjustment Assistance.

[FR Doc. 03-20108 Filed 8-6-03; 8:45 am]

BILLING CODE 4510-30-P